DEPARTMENT OF HOMELAND SECURITY

Coast Guard

[USCG-2004-19842]

Ballast Water Management for Vessels Entering the Great Lakes That Declare No Ballast Onboard

AGENCY: Coast Guard, DHS.

ACTION: Notice of policy; availability of draft environmental assessment.

SUMMARY: To prevent the introductions of aquatic nonindigenous species from vessels entering the Great Lakes declaring no ballast onboard (NOBOB), the Coast Guard establishes best management practices for residual ballast water and sediment management to be followed by NOBOB vessels. Coast Guard also requests comments on the draft environmental assessment prepared for the policy.

DATES: This policy is effective on the date of publication in the Federal Register. Comments and related material regarding the draft Environmental Assessment must reach the Docket Management System on or before September 30, 2005.

ADDRESSES: You may submit comments identified by Coast Guard docket number USCG-2004-19842 to the Docket management facility at the U.S. Department of Transportation. To avoid duplication, please use only one of the following methods: (1) By mail to the Docket Management Facility (USCG-2004-19842), U.S. Department of Transportation, Room PL-401, 400 Seventh Street, SW., Washington, DC 20593-0001. (2) By delivery to Room PL-401 on the Plaza Level of the Nassif Building, 400 Seventh Street, SW., Washington DC between 9 a.m. and 5 p.m., Monday through Friday, except Federal holidays. The telephone number is (202) 366-9329. (3) By fax to the Docket Management Facility at (202) 493-2251. (4) Electronically through the Web site for the Docket Management System at http://dms.dot.gov. The Docket Management Facility maintains the public docket for this notice. Comments will become part of this docket and will be available for inspection or copying in Room PL-401, located on the Plaza Level of the Nassif Building at the above address between 9 a.m. and 5 p.m., Monday through Friday, except for Federal holidays. You may also view this docket, including this notice and comments, on the Internet at http://dms.dot.gov.

FOR FURTHER INFORMATION CONTACT: For information concerning this policy, call Mr. Bivan Patnaik, Project Manager, Environmental Standards Division, U.S. Coast Guard, telephone 202-267-1744 or via e-mail bpatnaik@comdt.uscg.mil. If you have any questions on viewing or submitting material to the docket, call Ms. Andrea M. Jenkins, Program Manager, Docket Operations, Department of Transportation, telephone 202-366-0271.

SUPPLEMENTARY INFORMATION:

Regulatory History

The Nonindigenous Aquatic Nuisance Prevention and Control Act of 1990, as reauthorized and amended by the National Invasive Species Act of 1996, authorizes the Coast Guard to develop guidelines and regulations to prevent the introduction of nonindigenous species (NIS) via ballast water discharges. The Coast Guard promulgated regulations in the Federal Register on June 14, 2004, entitled, “Penalties for Non-submission of Ballast Water Management Reports” (68 FR 32864) and on July 28, 2004, entitled “Mandatory Ballast Water Management for U.S. Waters” (69 FR 44952). In doing so, the Great Lakes Ballast Water Management Program that became effective on May 10, 1993 (58 FR 18330), has remained unchanged, with the exception that all vessels equipped with ballast water tanks that enter and operate between ports in the Great Lakes must now submit their ballast water reporting forms to the National Ballast Information Clearinghouse as of August 13, 2004 (69 FR 32864).

On July 14, 2004, the Coast Guard received a petition for rulemaking requesting that we take specific regulatory action to prevent NIS introductions via NOBOB vessels. In response, on January 7, 2005, the Coast Guard published a notice of public meeting; request for comments, entitled, “Ballast Water Management for Vessels Entering the Great Lakes that Declare No Ballast Onboard” (70 FR 1448) asking the public to assist us in developing ballast water management practices for NOBOBs that are effective and practicable. Additionally on May 9, 2005, we held a public meeting where we further engaged the public on this issue. There were 35 people in attendance including representatives from: Congressional staff, federal agencies, state agencies, international organizations, the shipping industry, maritime equipment manufacturers, non-governmental organizations, and concerned citizens. From the notice and the public meeting, we received 25 letters on the issue.

Background and Purpose

Vessels carrying ballast water that enter the Great Lakes after operating outside the U.S. Exclusive Economic Zone (EEZ) are required to comply with the Great Lakes ballast water management requirements found in 33 CFR Part 151, Subpart C. Ballast water means any water and suspended matter taken on board a vessel to control or maintain, trim, draught, stability, or stresses of the vessel, regardless of how it is carried. NOBOB vessels are those vessels that have discharged ballast water in order to carry cargo, and as a result, have only unpumpable residual water and sediment remaining in tanks. A large number of vessels that call on the Great Lakes are NOBOBs fully loaded with cargo that consequently cannot conduct a full mid-ocean exchange enroute to the Great Lakes. However, NOBOBs have the potential to carry NIS in their empty tanks via residual ballast water and/or accumulated sediment. Once NOBOBs enter the Great Lakes, discharge some or all of their cargo and take on ballast water, this water mixes with the residual water and sediment, and if this mixed ballast water is subsequently discharged into the Great Lakes, may provide a mechanism for NIS to enter the Great Lakes. Therefore, the Coast Guard is issuing best management practices for vessels with ballast tanks with residual ballast water and sediment. While this policy targets vessels declaring NOBOB entering the Great Lakes, the recommended management practices are applicable to all vessels that enter the Great Lakes with empty ballast tanks that may be filled with ballast water and discharged within the Great Lakes.

Discussion of Comments

From the notice and the public meeting, we received 25 letters on the issue. Most letters contained more than one comment. These included general comments as well as specific comments. We address the general comments first and then the specific comments.

General Comments

We received 3 comments that support the Coast Guard as the lead agency to regulate ballast water discharge. One commenter further stated that the Coast Guard should develop a regulatory regime based on the long-term goal of eliminating NIS from NOBOBs.

The Coast Guard agrees with these comments and preventing NIS introductions via NOBOBs for the interim is the intent of this notice. Once we establish the ballast water discharge (BWD) standard and use it to approve ballast water treatment methods, we will greatly reduce the number of NIS introductions via vessels in general, including NOBOBs.

Five commenters stated that a federal approach to preventing invasions in the Great Lakes is needed whereas a State-by-State piece-meal approach is not.

The Coast Guard agrees that a federal approach is more amenable than a patch-work of state NOBOB management programs, where each state may have different ballast water management requirements that could confuse the shipping industry and not necessarily prevent NIS introductions. However, NISA does allow for states to develop their own NIS prevention measures.

One commenter stated their opinion that misinformation is being sent to the public by “one or two individuals or organizations” regarding NIS invasions and NOBOBs.

The Coast Guard notes this comment without endorsing its validity. We reviewed and analyzed the National Oceanic and Atmospheric Administration's Great Lakes Environmental Research Laboratory (NOAA/GLERL) Report and Coast Guard monitoring data (Coast Guard unpublished data) and these analyses show that NOBOB vessels are carrying hundreds of tons of ballast water. Of the 103 foreign flag ships NOAA/GLERL boarded from December 2000 to December 2002, residual water surveyed ranged from negligible to 200 tons, and sediment accumulation ranged from negligible to 100 tons, with sixty percent of vessels estimated to have less than 10 tons. The Coast Guard inspected 36 vessels from May 2005 to July 2005 and the average amount of residual water and sediment per vessel was estimated at only 41.4 cubic meters. Also, of the 36 NOBOB vessels we sampled, approximately 45% of ballast water tanks were dry. Meaning these tanks were so dry that we could not get even a few drops of water needed to measure salinity.

The NOAA/GLERL NOBOB Project Report noted the majority of the NIS introduction risk is associated with fresh and brackish residual waters due to compatibility of the organisms native to these environments and the Great Lakes. Of the 36 vessels we inspected, approximately 30% of the tanks contained residual ballast water with a salinity of 30 ppt or greater, and only 16% of the tanks with residual ballast water contained fresh or brackish residual water.

The Coast Guard received 10 comments stating that we should require saltwater flushing for vessels carrying residual ballast water that enter the Great Lakes.

The Coast Guard agrees with this comment and through this notice we strongly recommend that vessels carrying residual ballast water conduct saltwater flushing prior to entering the Great Lakes. A more detailed discussion of this practice takes place further in this notice in the Best Management Practices Section.

Three commenters stated that the Coast Guard should set BWD standards for NOBOBs that are developed through regional collaboration and are based on federally defined ballast water management standards and consistent among all the Great Lakes states and provinces. Additionally, five commenters stated that the Coast Guard should implement the BWD standard for all vessels.

As stated previously, the Coast Guard is already developing a BWD standard for all vessels, which includes NOBOB vessels. We expect the standard to be environmentally protective, scientifically sound, and enforceable so that when vessels use Coast Guard approved ballast water treatment systems, NIS introductions will be greatly reduced from all vessels generally, including NOBOBs. The standard will be used to approve ballast water treatment systems. However, NISA allows for ballast water treatment as an option along with ballast water exchange, and therefore, those vessels able to conduct an exchange prior to entering the Great Lakes will be able to do so even after the ballast water discharge standard is issued.

Five commenters asked the Coast Guard to close the NOBOB loophole; that is, to change the applicability of the Great Lakes Ballast Water Management Program from vessels carrying ballast water to vessels equipped with ballast water tanks. One commenter stated that this change should occur for the interim, until a ballast water discharge standard is set.

The Coast Guard disagrees with this comment. The Coast Guard believes that developing effective and practicable ballast water management strategies for NOBOBs is the best way to address the risk of NIS introductions by these vessels. Requiring NOBOB vessels to comply with current ballast water management regulations for vessels entering the Great Lakes will not adequately prevent NIS introductions from NOBOBs since they cannot complete a mid-ocean ballast water exchange enroute to the Great Lakes. The Coast Guard believes that the separate, interim, management approach described in this notice is the best way to address the risk of NIS introductions from NOBOBs until the BWD standard is in place.

Eight commenters said that the Coast Guard should implement ballast water management requirements for NOBOBs that provide them with the following options:

• Conduct open ocean ballast water exchange, if such practices are found to be safe, or can be made safe, for NOBOB vessels;

• Retain their residual ballast water; or

• Employ an alternative treatment.

The Coast Guard finds implementing the suggested comments difficult at this time. NOBOBs cannot conduct mid-ocean exchange because they are carrying cargo and do not have sufficient freeboard to safely add sea water to their ballast tanks sufficient to complete an exchange. Adding ballast water to a vessel when it is fully loaded with cargo can be unsafe to the crew and to the vessel due to loss of stability and freeboard. The risk of NIS introduction from NOBOB vessels occurs when these vessels, while discharging cargo in a Great Lakes port, take on Great Lakes water as ballast water, and this ballast water mixes with residual ballast water and sediment and is subsequently discharged into the Great Lakes when the vessel loads cargo destined for ports outside the Great Lakes. Requiring the vessel to retain their ballast water or residual would impair the vessel's ability to carry cargo out of the Great Lakes. NOBOB vessels cannot employ an alternative treatment without approval by the Coast Guard. To date, there are no vessels that have requested approval of alternative treatment methods.

Two commenters stated that residual ballast water should be exchanged whenever possible. One commenter further elaborated by saying residual water should be exchanged in a saline environment of low turbidity at every opportunity.

The Coast Guard agrees with the commenters and through this notice of policy, we will be requesting vessels with residual ballast water to conduct a saltwater flush whenever possible, prior to entering the U.S. EEZ.

One commenter stated that future ballast water management regulations from international or national efforts should equally apply to NOBOBs and to vessels carrying ballast water.

The Coast Guard believes that once the ballast water discharge standard is in place, vessel owners will be able to treat ballast water prior to discharging it regardless of whether or not they carry ballast water or declare NOBOB.

Seven commenters stated that for the remainder of the 2005 shipping season and/or beyond, NOBOB vessels should be required to retain their untreated ballast onboard or barred from entering the Great Lakes. Further two commenters stated that retention should take place when these NOBOB vessels take on Great Lakes water as ballast water.

The Coast Guard disagrees with these comments. It is unreasonable to require all NOBOBs to retain untreated residual ballast water or residual ballast water that has been mixed with Great Lakes water or prevent vessels carrying cargo and no ballast from entering the Great Lakes. The suggested requirements would severely restrict the movement of cargo into and out of the Great Lakes. The Coast Guard believes a risk-based approach focused on NOBOB vessels with fresh and/or brackish residual waters is the best way forward.

Three commenters said that the Coast Guard should require NOBOB vessels to have BWM plans.

The Coast Guard agrees and since September 27, 2004, all vessels entering and operating in U.S. waters have been required to have a BWM plan onboard, including NOBOBs. This plan must show the specific vessel's ballast water management strategy as well as document those responsible for the plan's implementation have been trained and understand the plan.

One commenter suggested that we should also look at other vectors for NIS introductions such as hull fouling, heat exchangers, and bilge water.

The Coast Guard appreciates this comment and recognizes that there are other mechanisms for introductions of NIS via the vector of commercial shipping. The Coast Guard is currently focusing its regulatory efforts on preventing NIS introductions via ballast water and specifically from NOBOBs. Therefore, this comment is beyond the scope of the original request for comments.

One commenter suggested that arrangements be made to involve and encourage Canadian participation in a Great Lakes NOBOB rulemaking.

The Coast Guard notes this comment. Canada has recently announced their first proposed regulations for vessels entering the Great Lakes. Also, the U.S. and Canada are discussing cooperative approaches to ballast water management on the Great Lakes, within current regulatory authority and under the International Maritime Organization's (IMO) Ballast Water Management Convention of 2004.

Three commenters said that the Coast Guard should require all oceangoing ships to clean and remove sediment.

The Coast Guard already requires vessels equipped with ballast water tanks that operate in U.S. waters to regularly clean their ballast water tanks to remove sediment (33 CFR 151.2035(a)(3)).

One commenter suggested that the Coast Guard should forward the NOAA/GLERL NOBOB Report to IMO.

The Coast Guard notes this comment and is one of several co-sponsors of the NOAA/GLERL report. We will present a summary of this report at a future IMO Marine Environmental Protection Committee meeting if we have the opportunity.

One commenter said that the Coast Guard should use a risk-based approach for NOBOBs.

The Coast Guard agrees with this comment. The Best Management Practices discussed below do use a risk-based approach and are targeted at eliminating the residual water with the highest risk of introducing NIS from fresh and brackish water ecosystems into the Great Lakes.

One commenter asked the Coast Guard to develop a system to track and identify ships that pose the greatest risk.

The Coast Guard disagrees with this comment. We know from the work performed by NOAA/GLERL, the highest risk NOBOB tanks carry fresh or brackish residual water. Because of the ways cargo and ballast water are managed on ships, the risk of NIS introduction can vary significantly across individual tanks in a single ship. In addition, the risk can be dramatically reduced through the regular use of the Best Management Practices described further in this notice. This will result in a reduction of high-risk NIS introductions through the elimination of fresh and brackish residual ballast water.

Two commenters stated that the Coast Guard should require cargo be transferred at the entrance of the Great Lakes. Further, one commenter said we should review the option of shutting down the Saint Lawrence Seaway until NOBOB management strategies are in place.

The Coast Guard disagrees with this comment. We do not have the authority under NISA to require vessels to lighten their load, to transfer their cargo to other modes at the entrance of the Great Lakes, or shutdown the St. Lawrence Seaway. Also, the suggested requirements would severely restrict the movement of cargo into and out of the Great Lakes.

One commenter suggested that the Coast Guard require ships to have tamper-proof meters that document volumes, salinity, time and Global Positioning System (GPS) locations of ballast water taken on and discharged all over the world and submit this data to the Coast Guard prior to entry into U.S. waters and monthly while in U.S. waters.

The Coast Guard disagrees with this comment. The Coast Guard already requires ships that enter and/or operate in U.S. waters to submit their ballast water reporting forms. These reports already provide us with the locations (latitude and longitude) of where ballast water was taken on and discharged as well as the dates that these activities took place. Coast Guard compliance evaluation activities involve validating the information provided on these forms with information in vessel logs without the need for additional specialized equipment to be installed on the vessel.

Two commenters asked the Coast Guard to develop education and outreach initiatives for the shipping industry to assist the industry with complying with BWM regulations.

The Coast Guard agrees and will provide additional guidance and training to the shipping industry so they can be better equipped to comply with our BWM regulations and policies.

Comments Regarding Research and Treatment

Five commenters stated that the Coast Guard should work with vessel owners, operators and other maritime industry stakeholders and provide incentives to continue research and development on ballast water management technologies, notably NOBOB vessels. Furthermore, one commenter stated we should review and analyze technologies.

The Coast Guard already provides incentives to ship owners to further the development of ballast water treatment technologies through the Shipboard Technology Evaluation Program (STEP). This program was established in January 2004, through a Navigation and Inspection Circular (NVIC 01-04), and announced in a Notice of Availability published in the Federal Register on January 7, 2004 (69 FR 1082). Information on STEP can be found at: http://www.uscg.mil/hq/g-m/mso/step.htm. The Coast Guard also has ongoing efforts to review the development of technologies.

One commenter recommended the use of a “closed-loop” ballast water treatment process of ultraviolet radiation and filtration to address NIS introductions via NOBOBs.

The Coast Guard appreciates this comment and suggests the commenter work with a ship owner to submit an application to STEP so that we may further determine the efficacy and operational capability of this treatment system.

Two commenters stated that the Coast Guard should analyze the use of the following options to manage NOBOBs: ferrate, filtration, UV, ozonation, washdown-pumpout with scavenger pumps w/caustic soda, and/or chemical biocides.

The Coast Guard appreciates this comment and is tracking the development of these options; however, the Coast Guard will not require specific treatment options at this time. Vessels fitted with these treatment methods must apply to the Coast Guard for their approval for use in meeting the ballast water management regulations. Until a BWD standard is promulgated, ballast water management systems on vessels would be approved on a vessel-by-vessel basis. In addition, vessels using treatment systems must comply with all state water quality discharge limits for chemicals.

Seven commenters said that the Coast Guard's long-term goal should be zero discharge of living organisms from vessels entering the Great Lakes. One commenter further stated this could be achieved by such management options as filtration, ultraviolet radiation, and/or chemical biocides.

The Coast Guard disagrees that the long-term goal should be zero discharge of living organisms in the Great Lakes. According to our current authority under NISA, the long term goal is to prevent NIS introductions into the waters of the U.S. from ballast water, and this goal may be achieved without a zero discharge requirement. Once the BWD standard is developed, we will approve those technologies that meet the standard in an effort to prevent the introduction of NIS into the Great Lakes.

Two commenters suggested that the Coast Guard consider shore-side treatment options especially for a centralized facility in the Saint Lawrence Seaway, which seem reasonable and are cost effective.

Although the Coast Guard appreciates this comment, the Coast Guard is not involved in the regulatory or approval process for land-based ballast water treatment facilities. Anyone wishing to establish a ballast water reception facility that would discharge to waters of the United States would need to obtain a National Pollutant Discharge Elimination System (NPDES) permit under the Clean Water Act. In addition, all appropriate Federal, State, and local permits would need to be obtained.

One commenter stated that techniques to enhance flow-through or empty-refill exchange of NOBOBs should be the outcome of the Coast Guard technical workshop that was held immediately after the NOBOB public meeting.

The Coast Guard agrees that techniques to enhance flow-through and empty-refill exchange for NOBOBs should be evaluated. Ballast water exchange and other management options for NOBOBs were discussed during the technical workshop.

One commenter said that in cases where ballast water must be discharged into the Great Lakes, ships should use best available treatment technologies to be installed by 2006 in combination with mandatory ballast water management practices.

The Coast Guard notes this comment. Prior to Coast Guard approval, alternative treatment technologies must be reviewed to determine the efficacy and operational capabilities of the treatment systems, as well as the need to address the operational requirements of placing systems onboard ships. Alternative ballast water management practices for vessels must be approved by the Coast Guard, which is also time-intensive.

Comments Regarding Enforcement and Compliance

One commenter stated that the Coast Guard should conduct random inspections with fines of $5 million and seizure of each vessel that was not in compliance.

The Coast Guard disagrees with this comment. Every vessel entering the Great Lakes is subject to an inspection upon entering the Saint Lawrence Seaway. We conduct ballast water examinations for vessels carrying ballast water, and examinations for vessels that are NOBOBs. The Coast Guard verifies that the information reported is accurate, and sampling is carried out to determine compliance. If vessels are not in compliance with the ballast water exchange requirements, vessels are required to retain their ballast onboard for their entire voyage in the Great Lakes or they must go out 200 nautical miles from land and to water 2000 meters in depth to conduct ballast water exchange. Dollar value limits on civil penalties are provided by NISA and adjusted for inflation.

Three commenters recommended that the Coast Guard require strict compliance with the current Great Lakes Ballast Water Management regulations for NOBOBs, and require retention or the use of an effective treatment system prior to discharging ballast water.

Once the Coast Guard establishes a BWD standard, we will be able to approve effective ballast water treatment systems to be used prior to discharge for those vessels unable to conduct ballast water exchange, including NOBOB vessels. Until then, the Coast Guard believes implementation of the best management practices is the better option for NOBOB vessels.

Eight commenters stated that the Coast Guard should have an enforcement and compliance program in place for NOBOBs. One commenter further stated that this program should be as stringent as those for ballasted vessels, including restriction from entering the Great Lakes.

The Coast Guard disagrees with this comment. As the NOBOB policy will ask vessels to conduct saltwater flushing and other practices to maintain high salinity residual waters in ballast tanks, we cannot enforce vessel compliance with a voluntary program. However, we will be conducting a monitoring program to determine the efficacy of this practice in reducing fresh and brackish residual water carried by NOBOB vessels into the Great Lakes.

Best Management Practices for Vessels Declaring No Ballast Onboard That Enter the Great Lakes

The masters, owners, operators, or persons-in-charge of vessels equipped with ballast water tanks and voyage plans including transits to ports or places in the Great Lakes (including the Hudson River, North of the George Washington Bridge), should do the following:

• Conduct mid-ocean ballast water exchange during ballast-laden voyages in an area 200 nautical miles from any shore and in water 2000 meters deep whenever possible, prior to entering the U.S. EEZ.

• For vessels unable to conduct mid-ocean ballast water exchange, conduct saltwater flushing of their empty ballast water tanks in an area 200 nautical miles from any shore, whenever possible. For the purposes of this policy, saltwater flushing is defined as the addition of mid-ocean water to empty ballast water tanks; the mixing of the flush water with residual water and sediment through the motion of the vessel; and the discharge of the mixed water, such that the resultant residual water remaining in the tank has as high a salinity as possible, and preferably is greater than 30 parts per thousand (ppt). The vessel should take on as much mid-ocean water into each tank as is safe (for the vessel and crew) in order to conduct saltwater flushing. The master of the vessel is responsible for ensuring the safety of the vessel, crew, and passengers.

The masters, owners, operators, or persons-in-charge of vessels equipped with ballast water tanks, declaring NOBOB and bound for ports or places in the Great Lakes (including the Hudson River, North of the George Washington Bridge) should take particular care to conduct saltwater flushing on the transit to the Great Lakes so as to eliminate fresh and or brackish water residuals in ballast tanks.

NOBOB vessels that conduct these best management practices should incorporate them into their required ballast water management plan onboard their vessels. The requirements for ballast water management plans are found in 33 CFR 151.2035(a)(7). Also, NOBOB vessels are reminded that there are required ballast water management practices for vessels equipped with ballast water tanks that operate in U.S. waters, regarding avoiding ballasting operations in certain situations, sediment removal, and the cleaning of ballast tanks. These requirements are found in 33 CFR 151.2035(a).

Monitoring Program

The Coast Guard will monitor NOBOB vessels engaging in the best management practices during normal pre-arrival processing (or when updated ballast water reporting forms are obtained) and note the results in the U.S. Coast Guard's Marine Safety Detachment Massena's Vessel Matrix. NOBOB vessels that conducted mid-ocean exchange the last time the tanks contained ballast water should indicate that they have done so when submitting their Ballast Water Reporting Form (OMB Control No. 1625-0069) by filling out the appropriate information in Section 4. Ballast Water Management and in Section 5. Ballast Water History.

NOBOB vessels that conduct saltwater flushing should indicate that they have done so in the Ballast Water Reporting Form in Section 4. Ballast Water Management, by checking off the “Underwent Alternative Management” box and indicating that the vessel underwent saltwater flushing in the “specify alternative method” line. NOBOB vessels that conducted saltwater flushing should also fill out Section 5. Ballast Water History.

NOBOB vessels that use a U.S. Coast Guard approved alternative method (treatment) to ballast water exchange, should indicate they have done so in the Ballast Water Reporting Form in Section 4. Ballast Water Management, by checking off the “Underwent Alternative Management” box and indicating that the vessel underwent the specific alternative method in the “specify alternative method” line. NOBOB vessels that use a U.S. Coast Guard approved alternative method should also fill out Section 5. Ballast Water History.

For more information and examples on how to correctly fill out a ballast water reporting form, please visit the following Web site at: http://invasions.si.edu/nbic/instructions.html.

The Coast Guard will take samples of residual water from the ballast tanks of NOBOB vessels in order to determine the efficacy of this program. If we determine that this program is not effective in preventing the introduction of NIS into the Great Lakes, the Coast Guard may consider other alternatives.

Environment

In accordance with the National Environmental Policy Act of 1969 (Section 102(2)(c)), as implemented by the Council of Environment Quality regulations (40 CFR parts 1500-1508) and Coast Guard Policy for Considering Environmental Impacts (COMDTINST M16475.1D), the Coast Guard has prepared a draft Environmental Assessment (EA) to consider the environmental impacts of implementing the best management practices for NOBOB vessels. The draft EA identifies and examines those reasonable alternatives needed to effectively reduce NIS introductions into the Great Lakes via NOBOB vessels. The draft EA analyzed the no action alternative and one action alternative that could fulfill the purpose and need of establishing best management practices for NOBOB vessels to reduce NIS introductions into the Great Lakes. Specifically, the draft EA considered potential effects to the natural and human environments by incorporating environmental analyses previously conducted for establishing ballast water management regulations for U.S. waters. These analyses are available in the docket. Therefore, we are requesting your comments on environmental concerns you may have related to the draft EA. This includes methodologies for use in the draft EA or possible sources of data or information not included in the draft EA. Your comments will be considered in preparing a Finding of No Significant Impact (FONSI) and final PEA.

Dated: August 19, 2005.
T.H. Gilmour,
Rear Admiral, U.S. Coast Guard, Assistant Commandant for Marine Safety, Security and Environmental Protection.

[FR Doc. 05-17426 Filed 8-29-05; 12:21 pm]

BILLING CODE 4910-15-P